DEPARTMENT OF HEALTH AND HUMAN SERVICES

Health Resources and Services Administration

AGENCY: Health Resources and Services Administration.

ACTION: Notice; correction.

SUMMARY: In the Federal Register issue of Thursday, August 18, 1999, make the following correction:

Correction

In the Federal Register issue of Wednesday, August 18, 1999, in FR Doc. 99-21257, on page 45027, the grant category beginning in the first column under the heading “Health and Welfare Technical Advisory Group (CFDA# 93.110AI)” is withdrawn from competition due to consideration of alternative mechanisms to fund proposed activities.

Dated: February 18, 2000.
James J. Corrigan,
Associate Administrator for Management and Program Support.

[FR Doc. 00-4534 Filed 2-25-00; 8:45 am]

BILLING CODE 4160-15-P